DEPARTMENT OF HOMELAND SECURITY

Coast Guard

33 CFR Part 117

[USCG-2013-0981]

Drawbridge Operation Regulations; Passaic River, Newark and Harrison, NJ

AGENCY: Coast Guard, DHS.

ACTION: Notice of temporary deviation from regulations.

SUMMARY: The Commander, First Coast Guard District, has issued a temporary deviation from the regulation governing the operation of the National Railroad Passenger Corporation (AMTRAK) Dock Railroad Bridge across Passaic River, mile 5.0, between Newark and Harrison, New Jersey. This deviation allows the AMTRACK Dock Bridge, mile 5.0, across the Passaic River to remain closed during the Super Bowl XLVIII weekend to facilitate the movement of more than 150,000 visitors, guests and area residents to various public events and activities in New York and New Jersey.

DATES: This deviation is effective from 10:00 a.m. Saturday, February 1 through 1:00 a.m. Monday, February 3, 2014.

ADDRESSES: The docket for this deviation, [USCG-2013-0981] is available at http://www.regulations.gov. Type the docket number in the “SEARCH” box and click “SEARCH.” Click on Open Docket Folder on the line associated with this deviation. You may also visit the Docket Management Facility in Room W12-140, on the ground floor of the Department of Transportation West Building, 1200 New Jersey Avenue SE., Washington, DC 20590, between 9 a.m. and 5 p.m., Monday through Friday, except Federal holidays.

FOR FURTHER INFORMATION CONTACT: If you have questions on this temporary deviation, call or email Mr. Joe Arca, Project Officer, First Coast Guard District, joe.m.arca@uscg.mil, or (212) 668-7165. If you have questions on viewing the docket, call Barbara Hairston, Program Manager, Docket Operations, telephone 202-366-9826.

SUPPLEMENTARY INFORMATION: The AMTRAK Dock Bridge has a vertical clearance of 24 feet at mean high water, and 29 feet at mean low water in the closed position. The existing drawbridge operating regulations are found at 33 CFR 117.739(e).

AMTRAK, requested that the Dock Bridge not open for marine traffic from 10:00 a.m. Saturday, February 1 through 1:00 a.m. Monday, February 3, 2014, to facilitate the expected movement of more than 150,000 visitors, guests and area residents to various public events and activities in the New York and New Jersey area during the Super Bowl XLVIII weekend.

Passaic River is transited primarily by commercial navigation. The bridge owner reported that there were no requests for bridge openings at the Dock Bridge for the past three years. Vessels that can pass under the closed draw may do so at all times.

Under this temporary deviation the Dock Bridge may remain closed for marine traffic from 10:00 a.m. on Saturday, February 1 through 1:00 a.m. on Monday, February 3, 2014.

In accordance with 33 CFR 117.35(e), the bridge must return to its regular operating schedule immediately at the end of the designated deviation period. This deviation from the operating regulations is authorized under 33 CFR 117.35.

Dated: December 2, 2013.
Gary Kassof,
Bridge Program Manager, First Coast Guard District.

[FR Doc. 2013-29858 Filed 12-16-13; 8:45 am]

BILLING CODE 9110-04-P